DEPARTMENT OF ENERGY

Federal Energy Regulatory Commission

Combined Notice of Filings

Take notice that the Commission has received the following Natural Gas Pipeline Rate and Refund Report filings:

Docket Numbers: CP21-3-000.

Applicants: Columbia Gas Transmission, LLC.

Description: Joint Application to Amend Certificates of Public Convenience and Necessity of Columbia Gas Transmission, LLC.

Filed Date: 10/6/20.

Accession Number: 20201006-5126.

Comments Due: 5 p.m. ET 10/27/20.

Docket Numbers: RP20-1226-001.

Applicants: Equitrans, L.P.

Description: Tariff Amendment: Negotiated Rate Agreement—Eclipse—Amendment to be effective 11/1/2020.

Filed Date: 10/7/20.

Accession Number: 20201007-5042.

Comments Due: 5 p.m. ET 10/19/20.

Docket Numbers: RP21-40-000.

Applicants: Tennessee Gas Pipeline Company, L.L.C.

Description: § 4(d) Rate Filing: Sequent SP359512, SP100239 & Equinor SP101733 to be effective 11/1/2020.

Filed Date: 10/7/20.

Accession Number: 20201007-5056.

Comments Due: 5 p.m. ET 10/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2020.
Nathaniel J. Davis, Sr.,
Deputy Secretary.

[FR Doc. 2020-22777 Filed 10-14-20; 8:45 am]

BILLING CODE 6717-01-P